NUCLEAR REGULATORY COMMISSION

Regulatory Guides; Withdrawal

The Nuclear Regulatory Commission is withdrawing Regulatory Guide 8.14, “Personnel Neutron Dosimeters.” Revision 1 of Regulatory Guide 8.14, published in August 1977, endorsed ANSI N319-1976, “American National Standard for Personnel Neutron Dosimeters (Neutron Energies Less Than 20 MeV),” which has been replaced by ANSI N13.52-1999, “Personnel Neutron Dosimeters.” Regulatory Guide 8.14 does not need to be revised because regulations are in place that require licensees to have an adequate dosimetry program.

Licensees are required by 10 CFR 20.1501 to use dosimetry processors accredited through the National Voluntary Laboratory Accreditation Program (NVLAP). NVLAP requires processors to use new standards for personnel dosimetry, ANSI N13.52-1999 and ANSI N13.11-1993, “Personnel Dosimetry Performance-Criteria for Testing,” to maintain an appropriate quality for dosimetry processing.

Licensees should note that the guidance in Regulatory Positions 1.b and 1.c of Regulatory Guide 8.14 regarding the use of calculated neutron dose equivalents is also contained in Regulatory Guide 8.4, “Direct-Reading and Indirect-Reading Pocket Dosimeters.” The use of calculated neutron dose equivalents is still applicable because Regulatory Guide 8.4 has not been withdrawn.

Regulatory guides may be withdrawn when they are superseded by the NRC's regulations, when equivalent recommendations have been incorporated in applicable approved codes and standards, or when changes in methods and techniques or in the need for specific guidance have made them obsolete.

Comments and suggestions in connection with regulatory guides being developed and effective guides are encouraged at any time. Written comments may be submitted to the Rules and Directives Branch, Division of Administrative Services, Office of Administration, U.S. Nuclear Regulatory Commission, Washington, DC 20555.

(5 U.S.C. 552(a))

Dated at Rockville, Maryland, this 9th day of February 2001.
For the Nuclear Regulatory Commission.
Margaret V. Federline,
Deputy Director, Office of Nuclear Regulatory Research.

[FR Doc. 01-4629 Filed 2-23-01; 8:45 am]

BILLING CODE 7590-01-P